DEPARTMENT OF THE INTERIOR

Bureau of Ocean Energy Management

[MMAA104000; OMB Control Number 1010-0048; Docket ID: BOEM-2018-0016]

Agency Information Collection Activities; Submission to the Office of Management and Budget for Review and Approval; 30 CFR 551, Geological and Geophysical Explorations of the Outer Continental Shelf

AGENCY: Bureau of Ocean Energy Management, Interior.

ACTION: Notice of information collection; request for comment.

SUMMARY: In accordance with the Paperwork Reduction Act of 1995, the Bureau of Ocean Energy Management (BOEM) is proposing to renew an information collection with revisions.

DATES: Interested persons are invited to submit comments on or before March 30, 2018.

ADDRESSES: Send written comments on this information collection request (ICR) to the Office of Management and Budget's Desk Officer for the Department of the Interior by email at OIRA_Submission@omb.eop.gov; or via facsimile to 202-395-5806. Please provide a copy of your comments to the BOEM Information Collection Clearance Officer, Anna Atkinson, Bureau of Ocean Energy Management, 45600 Woodland Road, Sterling, Virginia, 20166; or by email to anna.atkinson@boem.gov. Please reference Office of Management and Budget (OMB) Control Number 1010-0048 in the subject line of your comments.

FOR FURTHER INFORMATION CONTACT: To request additional information about this ICR, contact Anna Atkinson by email, or by telephone at 703-787-1025. You may also view the ICR at http://www.reginfo.gov/public/do/PRAMain.

SUPPLEMENTARY INFORMATION: In accordance with the Paperwork Reduction Act of 1995 (PRA), we provide the general public and other Federal agencies with an opportunity to comment on new, proposed, revised, and continuing collections of information. This helps us assess the impact of our information collection requirements and minimize the public's reporting burden. It also helps the public understand our information collection requirements and provide the requested data in the desired format.

Comments: A Federal Register notice with a 60-day public comment period soliciting comments on this collection of information was published on August 31, 2017 (82 FR 41424). BOEM received two comment letters during the 60-day comment period. One comment from a private citizen was not germane to the PRA. The other comments were received from the American Petroleum Institute and the International Association of Geophysical Contractors (IAGC) on October 30, 2017. Their comments include:

Comment 1: Rather than identifying the specific vessel, may the applicant provide information on the type of vessel that will be used to conduct the survey? BOEM can then proceed with its review of the application. The vessel name can be provided at a later date, and assuming it has similar specifications, further analysis by BOEM would not be necessary. On occasion application submissions are delayed until the contractor/vessel is known, and at other times companies must request a modification to the permit as contractors/vessels change.

BOEM Response: We have added the change to Form BOEM-0327 at A.6 to allow details of the vessel (other than “type”) to be provided at a later date. If the vessel information has not been provided when the permit is ready to be issued, BOEM will notify the permittee that the permit is ready and they will have 30 days to provide the vessel information or their permit will be canceled.

Comment 2: Similarly, may third party notification letters be submitted at a later stage in the process after the application is submitted? At times the application is held up until these letters are completed and distributed.

BOEM Response: Yes, they may be submitted separately from the application, but must be received before the permit will be issued. BOEM is open to discussions with IAGC on this topic.

Comment 3: Can BOEM routinely notify all applicants of form updates? Out of date templates have been used in the past, which ultimately causes delay.

BOEM Response: Current fillable forms are available on BOEM's website at https://www.boem.gov/BOEM-OCS-Operation-Forms/ and forms specific to Geological & Geophysical (G&G) exploration and permitting are posted at https://www.boem.gov/Oil-and-Gas-Energy-Program/Resource-Evaluation/Regulation-of-Pre-lease-Exploration/GG-Permit-Applications.aspx. All forms, including both the application and permit, are clearly marked with an OMB approval date in the lower left hand corner and state that previous editions are obsolete.

Comment 4: BOEM has requested comments on whether the information collected was “processed and used in a timely manner.” Currently, industry finds the permitting process to be open-ended and uncertain. The Associations recommend that BOEM establish a timeline for permit review and approval, similar to how drilling permits are approved.

BOEM Response: There is no regulatory time frame for processing G&G permits. Internally, for GOM applications BOEM attempts to issue non-airgun high resolution permits, on average, within 40 days and for bottom disturbing and airgun permits, on average, in 70 days. This may vary as a result of work load at the permit processing level and/or at the environmental review level. In addition, the time frames above do not include any additional time required to obtain additional or corrected information from the applicant.

However, for G&G permits in the Atlantic, the applicant must apply and receive an Incidental Harassment Authorization (IHA) from NMFS before the permit will be issued. Because NMFS is an independent agency, with its own regulatory timelines, BOEM has no control over their processes and timelines.

Comment 5: BOEM acknowledges that an application process for a single permit in Alaska or the Atlantic takes 1,000 hours to complete, while the same permit application in the Gulf of Mexico (GoM) may take 300 hours. This is a conservative estimate and the time required may be even greater. BOEM explains that this extraordinary burden is related to NEPA and the associated mitigation requirements. However, such a burden is unjustified, especially considering that surveys are routinely conducted without impact in similar environments worldwide. Rather than simply requesting approval for these unjustified burdens, BOEM should instead assess its permitting process and determine how the burdens will be reduced. Such a reduction would be consistent with the purpose of the PRA. The high permitting costs are entirely inconsistent with the low and effectively managed safety and environmental risks from G&G activities.

BOEM Response: BOEM recognizes the commenter's concern regarding the burden hours associated with processing a permit application but the commenters did not provide specific estimates or information to justify modification of the burden hour estimates. BOEM is interested in specific estimates and recommendations to consider modification of the burden hours. Comments can be submitted to OMB within 30 days of the notice's publication.

Additionally, in accordance with the Trump Administration's executive and secretarial orders, most specifically Executive Order 13783 and Secretary's Order 3350, BOEM has been working with National Marine Fisheries Service (NMFS) to streamline processes and improve efficiencies.

Comment 6: BOEM also should take steps to reduce the estimated 300-hour burden to apply for G&G permits in the GoM. Thousands of such permits have been issued and the environmental effects have been fully assessed. Mitigating measures have proved effective and should not be changed after a permit is issued. Applying for a GoM permit should be a simple matter of identifying the timing, location, vessel and equipment, and mitigation. Absent special circumstances, the burden could be reduced by 90% without increasing environmental risks.

BOEM Response: The burden hours are used by the applicants to provide BOEM with the appropriate documentation to clearly and completely describe their proposed activity. This information is used by BOEM to ensure a proper understanding of the currently proposed activity and the equipment to be used. This ensures that an appropriate site/activity specific environmental analysis is conducted. Without the descriptive information being provided for each proposed activity (thus the burden hours) BOEM cannot ensure it is fulfilling its statutory obligations under OCSLA and NEPA.

Comment 7: We encourage BOEM to explore the creation of an electronic permit application process. Efficiencies for permit processing and man-hours may be realized through electronic permit applications.

BOEM Response: A web-based process for the electronic submission/issuance of BOEM G&G permitting is being considered for the future.

Comment 8: Finally, while this ICR addresses BOEM G&G permitting activities, it fails to capture the entire burden needed to conduct G&G activities, which in some cases requires (or may require in the future) authorizations from the National Marine Fisheries Service (NMFS) for incidental take pursuant to the Marine Mammal Protection Act (MMPA) and/or the Endangered Species Act (ESA). For example, for G&G permitting in the Atlantic this is a required part of the process, and the associated burdens should be acknowledged in the ICR. Industry's G&G permitting experience in the Atlantic has shown extreme delays on the part of NMFS. Often applicants are told that a BOEM G&G permit is “ready to be issued” (or has been issued) long before the applicant receives MMPA or ESA authorizations from NMFS upon which the G&G permit is contingent.

BOEM Response: NMFS, not BOEM, has the authority for incidental take authorizations under the MMPA and ESA. Accordingly, the associated ICR burden hours for these authorizations are under the purview of NMFS. As mentioned earlier, BOEM, NMFS, and other Federal agencies are working together to determine how the permitting process might be expedited and streamlined. However, in the final analysis NMFS is an independent agency with its own regulatory timelines and processes.

We are again soliciting comments on the proposed ICR that is described below. We are especially interested in public comment addressing the following issues: (1) Is the collection necessary to the proper functions of BOEM? (2) will this information be processed and used in a timely manner? (3) is the estimate of burden accurate? (4) how might BOEM enhance the quality, utility, and clarity of the information to be collected? and (5) how might BOEM minimize the burden of this collection on the respondents, including through the use of information technology?

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The Outer Continental Shelf (OCS) Lands Act, as amended (43 U.S.C. 1331 et seq. and 43 U.S.C. 1801 et seq.), authorizes the Secretary of the Interior to prescribe rules and regulations to administer leasing of mineral resources on the OCS. The OCS Lands Act at 43 U.S.C. 1340 states that “any person authorized by the Secretary may conduct geological and geophysical explorations in the OCS, which do not interfere with or endanger actual operations under any lease maintained or granted pursuant to this subchapter, and which are not unduly harmful to aquatic life in such area.” The section further provides that permits to conduct such activities may only be issued if it is determined that the applicant is qualified; the activities will not interfere with or endanger operations under any lease issued or maintained pursuant to OCSLA; and the activities will not be unduly harmful to aquatic life, result in pollution, create hazardous or unsafe conditions, unreasonably interfere with other uses of the area, or disturb any site, structure, or object of historical or archaeological significance.

Applicants for permits are required to submit Form BOEM-0327 to provide the information necessary to evaluate their qualifications, and upon approval, respondents are issued a permit.

The Independent Offices Appropriations Act (31 U.S.C. 9701), the Omnibus Appropriations Bill (Pub. L. 104-133, 110 Stat. 1321, April 26, 1996), and OMB Circular A-25 authorize Federal agencies to recover the full cost of services that confer special benefits. All G&G permits are subject to cost recovery, and BOEM regulations specify service fees for these requests.

Regulations to carry out these responsibilities are contained in 30 CFR part 551 and are the subject of this information collection renewal. BOEM uses the information to:

• Identify oil, gas, sulfur, and mineral resources in the OCS;

• Ensure the receipt of fair value for mineral resources;

• Ensure that the exploration activities do not cause harm to the environment or persons, or create unsafe operations and conditions, damage historical or archaeological sites, or interfere with other uses;

• Analyze and evaluate preliminary or planned drilling activities;

• Monitor progress and activities in the OCS;

• Acquire G&G data and information collected under a Federal permit offshore; and

• Determine eligibility for reimbursement from the government for certain costs.

In this renewal, BOEM is renewing Form BOEM-0327—Requirements for Geological or Geophysical Explorations or Scientific Research on the Outer Continental Shelf. This form consists of the requirements for G&G activities requiring Permits and Notices, along with the application that the respondent submits to BOEM for approval, as well as a nonexclusive use agreement for scientific research, if applicable. The requirements portion of the form lets the respondents know the authority and requirements, along with other relevant information for the permit. BOEM is making modifications to this form by adding OCS boundary/3-mile limit to plat information requirements.

To Attachment 1, Section A, BOEM modified item 6 to allow for the identification of vessel type in the event that the vessel name is unknown. To Attachment 1, Section C, item 2, BOEM added “e. Submit relevant shapefiles needed to recreate the map as part of the required digital copy.” On page 11, Section D, Proprietary Information Attachment Required for an Application for Geophysical Permit, item 3, BOEM added “ping duration/cycle”' and “ping rate” to the table and narrative.

Upon BOEM approval of the application, respondents are issued a permit using Form BOEM-0328, Permit to Conduct Geophysical Exploration for Mineral Resources or Scientific Research on the Outer Continental Shelf, for conducting geophysical exploration for mineral resources or scientific research, or Form BOEM-0329, Permit to Conduct Geological Exploration for Mineral Resources or Scientific Research on the Outer Continental Shelf, for conducting geological exploration for mineral resources or scientific research. These permits are filled in by BOEM and do not incur a respondent hour burden.

The currently approved OMB paperwork burden is 40,954 annual burden hours. Due to a reduction of G&G permit applications annually in the Gulf of Mexico, BOEM is decreasing the number of responses to 688 responses and annual burden hours to 35,254 burden hours.

We protect proprietary information in accordance with the Freedom of Information Act (5 U.S.C. 522) and the Department of the Interior's implementing regulations (43 CFR part 2), and under regulation at 30 CFR part 551.

Title of Collection: 30 CFR 551, Geological and Geophysical Explorations of the Outer Continental Shelf.

OMB Control Number: 1010-0048.

Form Number: BOEM-0327, Requirements for Geological or Geophysical Explorations or Scientific Research on the Outer Continental Shelf.

Type of Review: Revision of a currently approved collection.

Respondents/Affected Public: Potential respondents comprise Federal OCS oil, gas, and sulphur permittees or notice filers.

Total Estimated Number of Annual Responses: 688 responses.

Total Estimated Number of Annual Burden Hours: 35,254 hours.

Respondent's Obligation: Mandatory.

Frequency of Collection: On occasion, annual, or as specified in permits.

Total Estimated Annual Nonhour Burden Cost: $136,816.

Citation 30 CFR 551 | Reporting and recordkeeping requirement | Hour burden | Average number of annual responses | Annual burden hours
| Non-hour cost burden *
30 CFR 551.1 Through 551.6
551.4(a), (b); 551.5(a), (b), (d); 551.6; 551.7 | Apply for permits (Form BOEM-0327) to conduct G&G exploration, including deep stratigraphic tests/revisions when necessary. Submit required information in manner specified | 1,000 AK ** 1,000 ATL & Pacific ** 300 GOM | 4 Applications 9 Applications 55 Applications | 4,000 9,000 16,500
|  | 68 applications × $2,012 = $136,816
551.4(b); 551.5(c), (d); 551.6 | File notices to conduct scientific research activities, including notice to BOEM prior to beginning and after concluding activities | 1 | 1 Notice | 1
551.6(b) 551.7(b)(5) | Notify BOEM if specific actions occur; report archaeological resources (no instances reported since 1982). Consult with other users | 1 | 1 Notice | 1
Subtotal | 70 responses | 29,502
| $136,816 non-hour cost burden
30 CFR 551.7 Through 551.9
551.7; 551.8 | Submit APD and Supplemental APD to BSEE | Burden included under BSEE regulations at 30 CFR 250, Subpart D (1014-0018). |  | 0
551.7; 551.8(b) | Submit information on test drilling activities under a permit, including required information and plan revisions (e.g., drilling plan and environmental report) | 1 | 1 Submission | 1
551.7(c) | Enter into agreement for group participation in test drilling, including publishing summary statement; provide BOEM copy of notice/list of participants (no agreements submitted since 1989) | 1 | 1 Agreement | 1
551.7(d) | Submit bond(s) on deep stratigraphic test | Burden included under 30 CFR Part 556 |  | 0
| and required securities | (1010-0006). |  |
551.8(a) | Request reimbursement for certain costs associated with BOEM inspections (no requests in many years) | 1 | 1 Request | 1
551.8(b), (c) | Submit modifications to permits, and status/final reports on, activities conducted under a permit | 38 AK ** 38 ATL ** | 4 Respondents ×10 Reports = 40 9 Respondents × 10 Reports = 90 | 1,520 3,420
|  | 2 GOM | 55 Respondents × 3 Reports = 165 | 330
551.9(c) | Notify BOEM to relinquish a permit | ½ | 2 Notices | 1
Subtotal | 300 responses | 5,274
30 CFR 551.10 Through 551.13
551.10(c) | File appeals | Exempt under 5 CFR 1320.4(a)(2), (c). |  | 0
551.11; 551.12 | Notify BOEM and submit G&G data and/or information collected and/or processed by permittees, bidders, or 3rd parties, etc., including reports, logs or charts, results, analyses, descriptions, information as required, and agreements, in manner specified | 4 | 40 Submissions | 160
551.13 | Request reimbursement for certain costs associated with reproducing data/information | 2 | 40 Submissions | 80
Subtotal | 80 responses | 240
30 CFR 551.14
551.14(a), (b) | Submit comments on BOEM intent to disclose data and/or information to the public | 1 | 2 Comments | 2
551.14(c)(2) | Submit comments on BOEM intent to disclose data and/or information to an independent contractor/agent | 1 | 2 Comments | 2
551.14(c)(4) | Contractor/agent submits written commitment not to sell, trade, license, or disclose data and/or information without BOEM consent | 1 | 2 Commitments | 2
551.1-551.14 | General departure and alternative compliance requests not specifically covered elsewhere in part 551 regulations | 1 | 2 Requests | 2
Subtotal | 8 responses | 8
Extension for Permit Form & Recordkeeping
551.14(b) (BOEM-0327) | Request extension of permit time period; enter agreements | 1 | 100 Extensions | 100
| Retain G&G data/information for 10 years and make available to BOEM upon request | 1 | 130 Recordkeepers | 130
Subtotal | 230 responses | 230
Total Burden | 688 Responses | 35,254
| $136,816 Non-Hour Cost Burden
* Fees are subject to modification per inflation annually.
** Burden hours for the frontier areas of the Alaska Region and Atlantic OCS are significantly higher because of NEPA and mitigation requirements. BOEM is accounting for the total time to compile/submit the necessary information to obtain the required authorizations to acquire a BOEM permit.

An agency may not conduct or sponsor and a person is not required to respond to a collection of information unless it displays a currently valid OMB control number.

The authority for this action is the Paperwork Reduction Act of 1995 (44 U.S.C. 3501 et seq.).

Dated: February 26, 2018.
Deanna Meyer-Pietruszka,
Chief, Office of Policy, Regulation and Analysis.

[FR Doc. 2018-04170 Filed 2-27-18; 8:45 am]

BILLING CODE 4310-MR-P